DEPARTMENT OF LABOR

Employee Benefits Security Administration

[Exemption Application Number D-11603-07]

Withdrawal of the Notice of Proposed Exemption Involving Chrysler Group LLC (Chrysler Group) and Daimler AG (Daimler)

In the Federal Register dated September 16, 2010, (75 FR 56575), the Department of Labor (the Department) published a notice of pendency (the Notice) of a proposed exemption from the prohibited transaction restrictions of the Employee Retirement Income Security Act of 1974, as amended, and from certain taxes imposed by the Internal Revenue Code of 1986, as amended. The Notice concerned an application filed on behalf of Chrysler Group, located in Auburn Hills, Michigan, and Daimler, located in Stuttgart, Germany, (collectively, the Applicants) for transactions relating to and including the contribution of notes issued by Daimler to certain employee benefit plans sponsored by the Chrysler Group.

By e-mails dated December 3, 2010 and July 27, 2011 from Chrysler Group and Daimler, respectively, the Applicants requested that the application for exemption be withdrawn. Accordingly, the Department has determined to withdraw the above-cited Notice.

FOR FURTHER INFORMATION CONTACT: Chris Motta of the Department, telephone (202) 693-8540. (This is not a toll-free number.)

Dated: September 6, 2011.
Ivan L. Strasfeld,
Director of Exemption Determinations, Employee Benefits Security Administration, U.S. Department of Labor.

[FR Doc. 2011-23111 Filed 9-12-11; 8:45 am]

BILLING CODE 4510-29-P